AGENCY FOR INTERNATIONAL DEVELOPMENT

Notice of Public Information Collection Requirements Submitted to OMB for Review

SUMMARY: U.S. Agency for International Development (USAID) has submitted the following information collection to OMB for review and clearance under the Paperwork Reduction Act of 1995, Public Law 104- Comments regarding this information collection are best assured of having their full effect if received within 30 days of this notification. Comments should be addressed to: Desk Officer for USAID, Office of Information and Regulatory Affairs, Office of Management and Budget (OMB), Washington DC 20503. Copies of submission may be obtained by calling (202) 712-1365.

SUPPLEMENTARY INFORMATION: OMB Number: OMB 0412-0552.

Form Number: N/A.

Title: Financial Status Report.

Type of Submission: Renewal of Information Collection.

Purpose: USAID wants to require grant and cooperative agreement recipients who work in multiple countries to provide expenditure reports by country. USAID has stated in the “remarks” section of SF-269 and SF-269A, or other applicable approved financial report form that “For assistance programs which cover programs in more than one country, recipients shall specify by country the amount of the total Federals share which was expended for each country * * *.” The USAID has sought a class deviation to the statute from the Office of Management and Budget in accordance with the 22 CFR 226.4. The information being collected so that USAID may report to Congress, the Office of Management and Budget and other requesters per the requirements of the Government Performance and Results Act and the Government Management Reporting Act. Also, the reporting requirements are necessary to assure that USAID funds are expended in accordance with Statutory requirements and USAID policies.

Annual Reporting Burden:

Respondents: 80.

Total annual responses: 320.

Total annual hours requested: 800 hours.

Dated: March 31, 2000.
Joanne Paskar,
Acting Chief, Information and Records Division, Office of Administrative Services, Bureau for Management.

[FR Doc. 00-8508 Filed 4-5-00; 8:45 am]

BILLING CODE 6116-01-M